GENERAL SERVICES ADMINISTRATION

Office of Communications; Cancellation of a Standard Form

AGENCY: General Services Administration.

ACTION: Notice.

SUMMARY: The following Standard Form is cancelled: OF 67, Activity Schedule.

This form is being converted to a calendar item under the Federal Supply Schedule program.

DATES: Effective February 17, 2000.

FOR FURTHER INFORMATION CONTACT: Ms. Barbara Williams, General Services Administration, (202) 501-0581.

Dated: February 7, 2000.
Barbara M. Williams,
Deputy Standard and Optional Forms Management Officer.

[FR Doc. 00-3752 Filed 2-16-00; 8:45 am]

BILLING CODE 6820-34-M